FEDERAL EMERGENCY MANAGEMENT AGENCY

44 CFR Part 65

Changes in Flood Elevation Determinations

AGENCY: Federal Emergency Management Agency, (FEMA).

ACTION: Final rule.

SUMMARY: Modified Base (1-percent-annual-chance) Flood Elevations (BFEs) are finalized for the communities listed below. These modified elevations will be used to calculate flood insurance premium rates for new buildings and their contents.

EFFECTIVE DATES: The effective dates for these modified BFEs are indicated on the table below and revise the Flood Insurance Rate Maps ((FIRMs) in effect for the listed communities prior to this date.

ADDRESSES: The modified BFEs for each community are available for inspection at the office of the Chief Executive Officer of each community. The respective addresses are listed in the table below.

FOR FURTHER INFORMATION CONTACT: Michael M. Grimm, Acting Chief, Hazard Study Branch, Federal Insurance and Mitigation Administration, 500 C Street, SW., Washington, DC 20472, (202) 646-2878 (e-mail) Michael.grimm@fema.gov.

SUPPLEMENTARY INFORMATION: FEMA makes the final determinations listed below of the final determinations of modified BFEs for each community listed. These modified elevations have been published in newspapers of local circulation and ninety (90) days have elapsed since that publication. The Administrator, Federal Insurance and Mitigation Administration, has resolved any appeals resulting from this notification.

The modified BFEs are not listed for each community in this notice. However, this rule includes the address of the Chief Executive Officer of the community where the modified BFE determinations are available for inspection.

The modifications are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings.

The changes in BFEs are in accordance with 44 CFR 65.4.

National Environmental Policy Act. This rule is categorically excluded from the requirements of 44 CFR part 10, Environmental Consideration. No environmental impact assessment has been prepared.

Regulatory Flexibility Act. The Administrator, Federal Insurance and Mitigation Administration, certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This final rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of section 2(b)(2) of Executive Order 12778.

List of Subjects in 44 CFR Part 65

Flood insurance, Floodplains, Reporting and record keeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and names of newspaper where notice was published | Chief executive officer of community | Effective date of modification | Community No.
Arkansas:
Washington (Case No. 02-06-1260P) (FEMA Docket No. P7616) | City of Fayetteville | Aug. 1, 2002, Aug. 8, 2002, Northwest Arkansas Times | The Honorable Dan Coody Mayor, City of Fayetteville 113 West Mountain Street, Fayetteville, Arkansas 72701 | July 23, 2002 | 050216
Pulaski (Case No. 01-06-1835P) (FEMA Docket No. P7614) | City of Little Rock | July 10, 2002, July 17, 2002, Little Rock Free Press | The Honorable Jim Dailey Mayor, City of Little Rock, 500 West Markham Street Room 203, Little Rock, Arkansas 72201 | Oct. 16, 2002 | 050181
Illinois:
Cook (Case No. 02-05-2333P) (FEMA Docket No. P7614) | Village of Palos Park | July 9, 2002, July 16, 2002, Daily Southtown | The Honorable Jean A. Moran, Mayor, Village of Palos Park, 8999 West 123rd Street, Palos Park, Illinois 60464 | Oct. 15, 2002 | 170144
Cook (Case No. 01-05-3037P) (FEMA Docket No. P7616) | Village of Palos Park | Aug. 8, 2002, Aug. 15, 2002, Daily Southtown | The Honorable Jean A. Moran, Mayor, Village of Palos Park, 8999 West 123rd Street, Palos Park, Illinois 60464 | Nov. 14, 2002 | 170144
Will (Case No. 02-05-1170P) (FEMA Docket No. 7616) | Village of Romeoville | Aug. 1, 2002, Aug. 8, 2002, The Herald News | The Honorable Fred Dewald, Mayor, Village of Romeoville, Village Hall, 13 Montrose Drive, Romeoville, Illinois 60446 | Nov. 7, 2002 | 170711
Michigan:
Wayne (Case No. 01-05-2843P) (FEMA Docket No. 7612) | Township of Canton | July 11, 2002, July 18, 2002, Michigan Community Newspapers | Mr. Thomas Yack, Township Supervisor, Township of Canton, 1150 South Canton Center, Canton, Michigan 48188 | June 14, 2002 | 260219
Minnesota:
Olmsted (Case No. 01-05-746P) (FEMA Docket No. P7616) | Unincorporated Areas | Aug. 1, 2002, Aug. 8, 2002, Post Bulletin | Mr. Richard Devlin, County Administrator, Olmsted County, 151 4th Street SE, Rochester, Minnesota 55904 | July 18, 2002 | 270626
Olmsted (Case No. 01-05-746P) (FEMA Docket No. P7616) | City of Rochester | Aug. 1, 2002, Aug. 8, 2002, Post Bulletin | The Honorable Chuck Canfield, Mayor, City of Rochester, City Hall, Room 281, 201 4th Street, SE, Rochester, Minnesota 55904 | July 18, 2002 | 275246
Missouri:
Howell (Case No. 00-07-791P) (FEMA Docket No. 76112) | City of West Plains | June 21, 2002, June 28, 2002, West Plains Daily Quill | The Honorable Joe Paul Evans, Myor, City of West Plains, P.O. Box 710, West Plains, Missouri 65775 | Dec. 6, 2002 | 290166
Ohio:
Lorain (Case No. 02-05-0982P) (FEMA Docket No. P7614) | City of Avon | July 9, 2002, July 16, 2002, The Morning Journal | The Honorable James Smith, Mayor, City of Avon, 36080 Chester Road, Avon, Ohio 44011 | June 20, 2002 | 390348
Franklin (Case No. 01-05-1827P) (FEMA Docket No. P7614) | City of Columbus | July 8, 2002, July 15, 2002, Columbus Dispatch | The Honorable Mike Coleman, Mayor, City of Columbus, 90 West Broad Street, Columbus, Ohio 43215 | Oct. 14, 2002 | 390170
Franklin (Case No. 01-05-1827P) (FEMA Docket No. P7614) | Unincorporated Areas | July 8, 2002, July 15, 2002, Columbus Dispatch | Ms. Arlene Shoemaker, President, Franklin County Board of Commissioners, 373 South High Street, 26th Floor, Columbus, Ohio 43215 | Oct. 14, 2002 | 390167
Franklin (Case No. 01-05-1827P) (FEMA Docket No. P7614) | Village of Groveport | July 8, 2002, July 15, 2002, Southwest Messenger | Mr. Anthony Bales, Village Administrator, Village of Groveport, Groveport Municipal Building, 655 Blacklick Street, Groveport, Ohio 43125 | Oct. 14, 2002 | 390174
Montgomery (Case No. 02-05-0845P) (FEMA Docket No. P7614) | Unincorporated Areas | July 9, 2002, July 16, 2002, Dayton Daily News | Mr. Charles J. Curran, Commissioner, Montgomery County, 451 West Third Street, Dayton, Ohio 45422 | Oct. 15, 2002 | 390775
Oklahoma:
Oklahoma (Case No. 02-06-281P) (FEMA Docket No. P7614) | City of Edmond | July 16, 2002, July 23, 2002, The Edmond Sun | The Honorable Saundra Naifeh, Mayor, City of Edmond, P.O. Box 2970, Edmond, Oklahoma 73083 | July 2, 2002 | 400252
Oklahoma, Canadian, Cleveland, McClain and Pottawatomie (Case No. 01-06-1912P) (FEMA Docket No. P7614) | City of Oklahoma City | July 24, 2002, July 31, 2002, The Daily Oklahoman | The Hon. Kirk Humphreys, Mayor, City of Oklahoma City, 200 North Walker, Suite 302, Oklahoma City, Oklahoma 73102 | Oct. 30, 2002 | 405378
Texas:
Dallas (Case No. 02-06-478P) (FEMA Docket No. P7616) | City of Cedar Hill | July 25, 2002, Aug. 1, 2002, DeSoto Today | The Hon. Robert L. Franke, Mayor, City of Cedar Hill, P.O. Box 96, Cedar Hill, Texas 75106 | July 12, 2002 | 480168
Denton (Case No. 02-06-525P) (FEMA Docket No. P7614) | Town of Corinth | July 16, 2002, July 23, 2002, Denton Record Chronicle | The Honorable J. B. Troutman, Mayor, Town of Corinth, 2002 South Corinth Street, Corinth, Texas 76210 | Oct. 22, 2002 | 481143
Tarrant (Case No. 02-06-453P) (FEMA Docket No. P7614) | City of Fort Worth | July 19, 2002, July 26, 2002, Fort Worth Star Telegram | The Honorable Kenneth Barr, Mayor, City of Fort Worth, City Hall, 1000 Throckmorton Street, Fort Worth, Texas 76102—6311 | Oct. 25, 2002 | 480596
Dallas (Case No. 02-06-1535P) (FEMA Docket No. P7614) | City of Garland | July 18, 2002, July 25, 2002 Garland Morning News | The Honorable Jim Spence, Mayor, City of Garland, P.O. Box 469002 Garland, TX 75046 | June 28, 2002 | 458471
Tarrant (Case No. 02-06-046P) (FEMA Docket No. P7616) | City of Keller | Aug. 13, 2002, Aug. 20, 2002, The Keller Citizen | The Honorable David Phillips, Mayor, City of Keller, P.O. Box 770, Keller, Texas 76244-0770 | Aug. 2, 2002 | 480602
Harrison and Gregg (Case No. 02-06-1946P) (FEMA Docket No. P7614) | City of Longview | July 11, 2002, July 18, 2002, Longview News Journal | The Honorable Earl Roberts, Mayor, City of Longview, P.O. Box 1952, Longview, TX 75606-1952 | Oct. 17, 2002 | 480264
Collin (Case No. 02-06-823P) (FEMA Docket No. P7616) | City of Plano | Aug. 21, 2002, Aug. 28, 2002, Plano Star Courier | The Honorable Pat Evans, Mayor, City of Plano, P.O. Box 860358, Plano, Texas 75086-0358 | Aug. 6, 2002 | 480140
Bexar (Case No. 02-06-1320P) (FEMA Docket No. P7614) | City of San Antonio | July 11, 2002, July 18, 2002, San Antonio Express News | The Honorable Ed Garza, Mayor, City of San Antonio, P.O. Box 839966,News San Antonio, Texas 78283-3966 | Oct. 17, 2002 | 480045
Bexar (Case No. 02-06-252P) (FEMA Docket No. P7614) | City of San Antonio | July 19, 2002, July 26, 2002, San Antonio Express News | The Honorable Ed Garza, Mayor, City of San Antonio, P.O. Box 839966, San Antonio, Texas 78283-3966 | Oct. 25, 2002 | 480045
Tarrant (Case No. 02-06-453P) (FEMA Docket No. P7614) | Unincorporated Areas | July 19, 2002, July 26, 2002, Fort Worth Star Telegram | The Hon. Tom Vandergriff, Judge, Tarrant County, 100 East Weatherford Street, Fort Worth, Texas 76196-0101 | Oct. 25, 2002 | 480582
Bexar (Case No. 01-06-1218P) (FEMA Docket No. P7614) | City of Universal City | July 11, 2002, July 18, 2002, Primetime Newspapers | The Honorable Wesley Becken, Mayor, City of Universal City, P.O. Box 3008, Universal City, Texas 78148 | Oct. 17, 2002 | 480049
Collin (Case No. 01-06-1232P) (FEMA Docket No. P7610) | City of Wylie | March 20, 2002, March 27, 2002, Wylie News | The Honorable John Mondy, Mayor, City of Wylie, 2000 State Highway 78 North, Wylie, Texas 75098 | Mar. 1, 2002 | 480759

(Catalog of Federal Domestic Assistance No. 83.100, “Flood Insurance.”)

Dated: January 21, 2003.
Anthony S. Lowe,
Administrator, Federal Insurance and Mitigation Administration.

[FR Doc. 03-2247 Filed 1-30-03; 8:45 am]

BILLING CODE 6718-04-P